DEPARTMENT OF COMMERCE

International Trade Administration

[A-570-894]

Certain Tissue Paper Products From the People's Republic of China: Notice of Rescission of the 2009-2010 Antidumping Duty Administrative Review

AGENCY: Import Administration, International Trade Administration, Department of Commerce.

SUMMARY: The Department of Commerce (the Department) is rescinding the administrative review of the antidumping duty order on certain tissue paper products from the People's Republic of China (PRC) for the period of review (POR) of March 1, 2009, to February 28, 2010, with respect to Max Fortune (Vietnam) Paper Products Company Limited (MFVN) because MFVN had no sales of subject merchandise which entered the United States during the POR.

DATES: Effective Date: August 5, 2011.

FOR FURTHER INFORMATION CONTACT: Brian Smith or Gemal Brangman, AD/CVD Operations, Office 2, Import Administration, International Trade Administration, U.S. Department of Commerce, 14th Street and Constitution Avenue, NW., Washington, DC 20230; telephone (202) 482-1766 or (202) 482-3773, respectively.

SUPPLEMENTARY INFORMATION:

Background

On April 6, 2011, the Department published the preliminary results of this administrative review. See Certain Tissue Paper Products From the People's Republic of China: Notice of Preliminary Results of Antidumping Duty Administrative Review, 76 FR 19049 (April 6, 2011) (Preliminary Results).

On May 20, 2011, MFVN and the petitioner ¹ submitted case briefs. On May 27, 2011, the petitioner submitted its rebuttal brief. MFVN did not submit a rebuttal brief.

¹ The petitioner is Seaman Paper Company of Massachusetts, Inc.

On May 31, 2011, MFVN withdrew its May 6, 2011, request for a hearing. No other party in this review requested a hearing.

On July 8 and 13, 2011, the Department held meetings with MFVN's and the petitioner's counsels, respectively, to discuss issues raised in their case briefs.²

² See the Department's memoranda to the file entitled, “Ex Parte Meeting with Counsel for Max Fortune (Vietnam) Paper Products Company, Limited,” dated July 11, 2011, and “Ex Parte Meeting with the Petitioner's Counsel,” dated July 14, 2011.

Rescission of Administrative Review

In this administrative review, MFVN requested rescission of this review on the basis that it made no sales/shipments during the POR of tissue paper products produced from Chinese-origin jumbo rolls/sheets.³ We determined in the Preliminary Results, as adverse facts available (AFA), that during the POR MFVN made shipments to the United States of tissue paper products produced using Chinese-origin jumbo rolls/sheets. Further, based on AFA, we preliminarily found that no substantial transformation is occurring as a result of further processing by MFVN in Vietnam and, thus, the country of origin for antidumping duty (AD) purposes of the tissue paper products produced by MFVN from Chinese-origin jumbo rolls/sheets is China. Consequently, we assigned MFVN a cash deposit rate of 112.64 percent.

³ See Letter from MFVN, dated August 17, 2010.

Our Preliminary Results assumed that MFVN was the entity making the first sale for export to the United States of the tissue paper products produced using Chinese-origin jumbo rolls/sheets. However, upon further review of the sales documentation on the record, we found that while MFVN physically ships the tissue paper it produces to the United States, MFVN's parent company in Hong Kong, Max Fortune Industrial Limited (MFHK), is the entity that sells it to the U.S. customer and, thus, is the “exporter” for AD purposes. The record evidence establishes that MFHK, among other things, negotiates the terms of the sale with and issues the commercial invoice to the U.S. customer for exports of tissue paper produced by MFVN.⁴ This fact pattern is not inconsistent with the Department's AFA determination in the Preliminary Results that MFVN made shipments to the United States of tissue paper products produced from Chinese-origin jumbo rolls/sheets, but instead reflects the Department's determination upon further consideration of record evidence that MFVN is not the exporter of the subject merchandise.

⁴ See Memorandum from to the File from Case Analysts entitled “Verification of the Questionnaire Response of Max Fortune (Vietnam) Paper Products Co., Ltd. and Its Affiliates in the Anti-circumvention Inquiry and 2009-2010 Antidumping Duty Administrative Review of Certain Tissue Paper Products from the People's Republic of China,” dated March 31, 2011, at exhibits 6A through 6F.

In administrative reviews involving non-market-economy countries, the Department calculates cash deposit rates only for exporters, not producers. See, e.g., Certain Frozen Fish Fillets From the Socialist Republic of Vietnam: Notice of Preliminary Results and Partial Rescission of the Third Antidumping Administrative Review, 72 FR 53527, 53530 (September 19, 2007) (rescinding review for company that was a producer, but not an exporter, of subject merchandise to the United States); unchanged in Certain Frozen Fish Fillets From the Socialist Republic of Vietnam: Final Results of Antidumping Duty Administrative Review and Partial Rescission, 73 FR 15479 (March 24, 2008). Accordingly, because MFVN was the producer, rather than the exporter, of the merchandise under review and, thus, had no sales of the subject merchandise to the United States during the POR, the Department is rescinding this administrative review with respect to MFVN.

In this case, the petitioner withdrew its request for review of the exporter MFHK, and we subsequently rescinded the review with respect to MFHK. See Certain Tissue Paper Products From the People's Republic of China: Notice of Partial Rescission and Extension of Time Limit for Preliminary Results of 2009-2010 Administrative Review, 75 FR 73040 (November 29, 2010). Therefore, given that MFHK is no longer subject to this review and there are no sales of subject merchandise by MFVN which entered the United States during the POR, we are rescinding this administrative review of MFVN in accordance with 19 CFR 351.213(d)(3).

Assessment

The Department will instruct U.S. Customs and Border Protection (CBP) to assess antidumping duties on all appropriate entries, including those from the PRC-wide entity. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is published in accordance with section 777(i) of the Tariff Act of 1930, as amended, and 19 CFR 351.213(d)(4).

Dated: August 1, 2011.
Christian Marsh,
Deputy Assistant Secretary for Antidumping and Countervailing Duty Operations.

[FR Doc. 2011-19923 Filed 8-4-11; 8:45 am]

BILLING CODE 3510-DS-P